DEPARTMENT OF JUSTICE

Notice of Lodging of Proposed Settlement Agreement Under the Clean Water Act

On August 11, 2014, the Department of Justice lodged a proposed settlement agreement (the “Settlement Agreement”) with the United States Bankruptcy Court for the Southern District of New York in the bankruptcy case of Metro Affiliates, Inc., and its affiliates (collectively “Metro”), In re Metro Affiliates, Inc., et al., Case No. 13-13591.

The parties to the proposed Settlement Agreement are Metro Affiliates, Inc., and its affiliates (the “Debtors”), the United States, and the Liquidating Trust established in the bankruptcy. The Settlement Agreement provides for a $400,000 allowed general unsecured claim for the United States on behalf of EPA, subject to any valid right of setoff, and $25,000.00 of allowed administrative expenses, again subject to any valid right to setoff.

The Settlement Agreement resolves the claims of the Environmental Protection Agency (“EPA”) against Debtors for civil penalties resulting from violations of the Clean Water Act, 33 U.S.C. §§ 1311, 1318, and 1342, at facilities maintained by the following debtors: Amboy Bus Company, Inc., Raybern Bus Service, Inc., and Staten Island Bus Company, Inc. Courtesy Bus Company, Inc., and Atlantic Express of New Jersey, Inc., and Staten Island Bus Company, Inc.. These violations included: failing to obtain stormwater discharge permits at nine locations; continuing discharges of stormwater associated with industrial activity without a permit; and, after obtaining permits for certain locations, violating the terms of those permits on multiple occasions. The locations at issue are the following: 399 Exterior Street, 586 River Avenue, Bronx, NY 10451; 2352 and 2384 East 69th Street, Brooklyn, NY 11234; 500 Oak Point Avenue, Bronx, NY 10474; 46-81 Metropolitan Avenue, Ridgewood, NY 11385; 127-45 34th Avenue, Flushing, NY 11354; 107 and 3535 Lawson Boulevard, Oceanside, NY 11572; 91 Baiting Place Road, Farmingdale, NY 11735; 260 and 280 Meredith Avenue, Staten Island, NY 10314; 107 How Lane, New Brunswick, NJ 08901, and 230 Red Lion Road, Vincentown, NJ 08088.

As part of the Settlement Agreement, Defendants will receive a covenant not to file a civil action or take administrative action against the Debtors for civil penalties under Section 309 of the Federal Water Pollution Control Act, 33 U.S.C. § 1319, with respect to the violations alleged in the proofs of claim and administrative expense request filed by the United States on behalf of EPA in the bankruptcy, through the date of lodging of the Settlement Agreement.

The publication of this notice opens a period for public comment on the Settlement Agreement. Comments should be addressed to the Assistant Attorney General, Environment and Natural Resources Division, and should refer to In re Metro Affiliates, Inc., et al., D.J. Ref. No. 90-5-1-1-11079. All comments must be received no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Public comments timely received will be filed on the public court docket. During the public comment period, the Settlement Agreement may be examined and downloaded at a Justice Department Web site: http://www.usdoj.gov/enrd/Consent_Decrees.html. We will provide a paper copy of the Settlement Agreement upon written request and payment of reproduction costs. Please mail your request and payment to: Consent Decree Library, U.S. DOJ—ENRD, P.O. Box 7611, Washington, DC 20044-7611.

Please enclose a check or money order for $3.50 (25 cents per page reproduction cost) payable to the United States Treasury.

Maureen M. Katz,
Assistant Section Chief, Environmental Enforcement Section, Environment and Natural Resources Division.

[FR Doc. 2014-19342 Filed 8-14-14; 8:45 am]

BILLING CODE 4410-CW-P